DEPARTMENT OF HEALTH AND HUMAN SERVICES

Administration on Aging

Agency Information Collection Activities; Submission for OMB Review; Comment Request; Extension of Certification of Maintenance of Effort for the Title III and Minor Revisions to the Certification of Long-Term Care Ombudsman Program Expenditures

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by July 11, 2011.

ADDRESSES: Submit written comments on the collection of information by fax 202-395-6974 to the OMB Desk Officer for AoA, Office of Information and Regulatory Affairs, OMB.

FOR FURTHER INFORMATION CONTACT: Becky Kurtz, National Long-Term Care Ombudsman, Administration on Aging, Washington, DC 20201.

SUPPLEMENTARY INFORMATION: In compliance with 44 U.S.C. 3507, AoA has submitted the following proposed collection of information to OMB for review and clearance. AoA invites comments on: (1) Whether the proposed collection of information is necessary for the proper performance of AoA's functions, including whether the information will have practical utility; (2) the accuracy of AoA's estimate of the burden of the proposed collection of information, including the validity of the methodology and assumptions used; (3) ways to enhance the quality, utility, and clarity of the information to be collected; and (4) ways to minimize the burden of the collection of information on respondents, including through the use of automated collection techniques when appropriate, and other forms of information technology.

The Certification on Maintenance of Effort for the Title III and Certification of Long-Term Care Ombudsman Program Expenditures provides statutorily required information regarding state's contribution to programs funded under the Older American's Act and conformance with legislative requirements, pertinent Federal regulations and other applicable instructions and guidelines issued by the Administration on Aging. This information will be used for Federal oversight of Title III Programs and the Title VII Ombudsman Program.

AoA estimates the burden of this collection of information as follows: 56 State Agencies on Aging respond annually with an average burden of one half (½) hour per State agency or a total of twenty-eight hours for all state agencies annually. The proposed data collection tools may be found on the AoA Web site for review at http://www.aoa.gov/AoARoot/AoA_Programs/Tools_Resources/Cert_Forms.aspx.

In the Federal Register of March 29, 2011 (Vol. 76 No. 60 Page 17419) the agency requested comments on the proposed collection of information. One comment was received. The National Association of State Long-Term Care Ombudsmen (NASOP) commented that the forms are necessary for proper stewardship of public funds and to assure that states are complying with the requirements of the Older Americans Act; and commented favorably about the proposed addition of the State Ombudsman's signature on the Certification of Long-Term Care Ombudsman Program Expenditures and the proposed reference on the form to the minimum funding requirements.

Dated: June 6, 2011.
Kathy Greenlee,
Assistant Secretary for Aging.

[FR Doc. 2011-14295 Filed 6-8-11; 8:45 am]

BILLING CODE 4154-01-P